DEPARTMENT OF DEFENSE

Office of the Secretary

Defense Science Board

Correction

In notice document 04-5642 beginning on page 11599 in the issue of March 11, 2004, make the following correction:

On page 5642, in the third column, in the SUMMARY section, in the 4th line, “March 19, 2004,” should read, “March 19, 2004, and March 31, 2004”.

[FR Doc. C4-5462 Filed 3-25-04; 8:45 am]

BILLING CODE 1505-01-D